DEPARTMENT OF DEFENSE

Department of Air Force

Exchange of Air Force Real Property for Non-Air Force Real Property

SUMMARY: Notice identifies excess Federal real property under administrative jurisdiction of the United States Air Force it intends to exchange for real property not currently owned by the Federal government that will be placed under the administrative jurisdiction of the Air Force.

FOR FURTHER INFORMATION CONTACT: Mr. Arthur Calix, Air Force Civil Engineer Center Installations Center of Excellence (AFCEC/CIT) , 2261 Hughes Avenue, Suite 155, Joint Base San Antonio (JBSA) Lackland, TX 78236-9853; telephone (210) 395-9481, (telephone number is not toll-free).

SUPPLEMENTARY INFORMATION: In accordance with 10 U.S.C. Section 2869 (d)(1), the Air Force is publishing this Notice to identify Federal real property that it intends to exchange for property that is needed by the Air Force to limit encroachment and other constraints on military operations at Hanscom Air Force Base, Massachusetts. Description of the Air Force Property: Approximately 36 acres of railway corridor of irregular width, located in the North Falmouth section of the Town of Falmouth, located on the southern portion of Cape Cod, Massachusetts. The rail corridor extends from an area just west of Route 28A and north of Route 151 on Cape Cod and extends to the southern portion of the Joint Base Cape Cod formally known as (Massachusetts Military Reservation), Otis Air National Guard Base, Massachusetts. The property consists of 23 tracts of land providing a rail corridor of about thirteen thousand linear feet in length.

Property Number

Status: Excess.

Comments: The Air Force railway land described above was determined to be excess to military mission needs on April 29, 2013. The property proposed to be acquired by the Air Force in the property exchange is about 18 acres of land, owned by the Commonwealth of Massachusetts, located adjacent to the Hanscom Air Force Base current main entry gate (Vandenberg Gate). If the transaction is approved, the Air Force intends to re-route the road into Vandenberg Gate and construct a new main gate facility to enhance the installation's main entry control point. Before the exchange agreement is approved by the Air Force, the Air Force will notify the appropriate Congressional committees of the terms and conditions of the proposed exchange pursuant to section 2869(d)(2) of title 10, United States Code.

Authority: Title 10, United States Code, Section 2869(d)(1).

Bao-Anh Trinh,
Air Force Federal Register Liaison Officer.

[FR Doc. 2013-19756 Filed 8-13-13; 8:45 am]

BILLING CODE 5001-05-P